DEPARTMENT OF HOMELAND SECURITY

Coast Guard

[Docket No. USCG-2023-0063]

Port Access Route Study: Approaches to Galveston Bay and Sabine Pass, Texas and Calcasieu Pass, Louisiana

AGENCY: Coast Guard, DHS.

ACTION: Notice of study; correction and extension of comment period.

SUMMARY: On March 1, 2023, the Coast Guard published a notice of a Port Access Route Study to evaluate the adequacy of existing vessel routing measures and determine whether additional vessel routing measures are necessary for port approaches to Galveston Bay and Sabine Pass, Texas, Calcasieu Pass, Louisiana, and international and domestic transit areas in the Eighth Coast Guard District area of responsibility. The Notice contained an incorrect telephone number for the agency contact listed. This document corrects that error and extends the public comment period to April 27, 2023.

DATES: All comments and related material in response to the notice published at 88 FR 12966, on March 1, 2023, must be received on or before April 27, 2023.

Commenters should be aware that the electronic Federal Docket Management System will not accept comments after midnight, Eastern Daylight Time, on the last day of the comment period. The correction in this document to the March 1, 2023 notice, FR Doc. 2023-04207, is applicable March 28, 2023.

ADDRESSES: You may submit comments identified by docket number USCG-2023-0063 using the Federal eRulemaking Portal (http://www.regulations.gov). See the “Public Participation and Request for Comments” portion of the SUPPLEMENTARY INFORMATION section in the March 1, 2023 notice (88 FR 12966) for further instructions on submitting comments.

FOR FURTHER INFORMATION CONTACT: If you have questions about this notice of study, call or email Ms. Brandi Canada, Eighth Coast Guard District (dpw), U.S. Coast Guard: telephone (504) 671-2330, email SMB-D8NewOrleans-TXLAPARS@uscg.mil.

SUPPLEMENTARY INFORMATION: The comment period for the notice entitled “Port Access Route Study: Approaches to Galveston Bay and Sabine Pass, Texas and Calcasieu Pass, Louisiana,” that was published on March 1, 2023 (88 FR 12966) is extended to May 17, 2023.

Correction

In the Federal Register of March 1, 2023, in FR Doc. 2023-04207, on page 12967, in the second column, correct the FOR FURTHER INFORMATION CONTACT section to read:

FOR FURTHER INFORMATION CONTACT: If you have questions about this notice of study, call or email Ms. Brandi Canada, Eighth Coast Guard District (dpw), U.S. Coast Guard: telephone 504-671-2330, email SMB-D8NewOrleans-TXLAPARS@uscg.mil.

Dated: March 23, 2023.
Michael T. Cunningham,
Chief, Office of Regulations and Administrative Law.

[FR Doc. 2023-06372 Filed 3-27-23; 8:45 am]

BILLING CODE 9110-04-P